DEPARTMENT OF AGRICULTURE

Forest Service

Hoosier National Forest, Indiana; German Ridge Restoration Project

AGENCY: Forest Service, USDA.

ACTION: Notice of intent to prepare an environmental impact statement.

SUMMARY: The USDA Forest Service, Hoosier National Forest intends to prepare an environmental impact statement (EIS) to disclose the environmental consequences of a vegetation restoration project. In the EIS the USDA Forest Service will address the potential environmental impacts of replacing pine plantations in the German Ridge area of Perry County, Indiana with native hardwood communities. See the SUPPLEMENTARY INFORMATION section for the purpose and need of the action.

DATES: Comments concerning the scope of the analysis must be received on or before September 30, 2002. The draft environmental impact statement is expected February 2003, and the final environmental impact statement is expected August 2003.

ADDRESSES: Send written comments to Ron Ellis, NEPA Coordinator; Hoosier National Forest; 811 Constitution Avenue; Bedford IN 47421. Send electronic comments to: r9_hoosier_website@fs.fed.us. See SUPPLEMENTARY INFORMATION section for information on how to send electronic comments.

FOR FURTHER INFORMATION, CONTACT: Ron Ellis, NEPA Coordinator, Hoosier National Forest, USDA Forest Service; telephone: 812-275-5987. See address above under ADDRESSES. Copies of documents may be requested at the same address. Another means of obtaining information is to visit the Forest Web page at www.fs.fed.us/r9/hoosier—click on “Forest Projects,” then “Scoping Packages,” and then “German Ridge Restoration.”

SUPPLEMENTARY INFORMATION:

Purpose and Need for Action

The purpose and need for the project is to:

• Fulfill the goals and objectives of the Forest Plan involving the restoration of native communities (Forest Plan, pp. 2-2, 2-6, and 2-32).

• Replace pine plantations with native hardwood communities that include a strong component of oaks, hickories, and other fire-adapted plants.

• Restore several fire-dependent plant species associated with the barrens that are Regional Forester sensitive species or forest species of concern.

Proposed Action

To move the vegetation toward the desired condition shown in the Hoosier National Forest Land and Resource Management Plan, the Hoosier National Forest would during the next six or seven years: (1) Use prescribed burning on 2,180 acres, (2) harvest using “clearcut with reserves” on 498 acres, (3) clearcut 80 acres, and (4) thin 101 acres. The total treatment area is 2,180 acres. Hardwood trees, which account for 20 to 50 percent of the trees in the pine stands, would be left in the harvest areas.

Possible Alternatives

Possible alternatives include no action, an alternative that would increase the visual buffer along the German Ridge multiple use trail and leave a no-cut buffer between cutting units, an alternative that would generally remove as much pine as possible from around rare plant communities, and an alternative that would burn only the pine stands and not the adjacent hardwoods.

Responsible Official

Kenneth G. Day, Forest Supervisor; Hoosier National Forest; 811 Constitution Avenue; Bedford, Indiana 47421.

Nature of Decision To Be Made

The decision to be made is whether or not to actively convert any or all of the 2,180 acres of pine plantations to hardwood communities by harvesting and prescribed burning.

Scoping Process

The Hoosier National Forest proposes to scope for information by contacting persons and organizations on the Hoosier's mailing list and publishing a notice in the local newspaper. No scoping meetings are planned at this time. The present solicitation is for comments on this Notice of Intent and scoping materials available elsewhere, such as on the Forest webpage.

Preliminary Issues

Preliminary or potential issues have been identified from previous public comments.

(1) Timber harvesting and burning may decrease land productivity through increased erosion and soil compaction and also adversely affect water quality.

(2) Commercial logging of pine around the barrens may damage rare plants and fragile soils and increase populations of exotic plants.

(3) Harvesting the pine, including the larger allowable size of openings in the Wheatly Branch Barrens and Harding Flats Special Areas, may result in adverse visual impacts, but leaving the high risk pine along the trails may cause safety concerns. On the other hand, removing the high risk pine might increase the growth of underbrush, resulting in increased costs for trail maintenance.

(4) Leaving the diseased pines may increase the spread of disease to other pine stands in the area, and insects and disease may destroy the useable products in the area if the pine is not harvested soon.

(5) Harvesting and burning may increase fragmentation of habitat for forest interior species, create additional clearing edge, and decrease habitat for species such as the pine warbler.

(6) Air quality may be degraded by burning and harvesting.

Electronic Access and Filing Addresses

Information is available electronically on the Forest Web page: www.fs.fed.us/r9/hoosier—click on “Forest Projects,” then “Scoping Packages,” and then “German Ridge Restoration.” Send electronic comments to: r9_hoosier_website@fs.fed.us. When submitting electronic comments, please reference the German Ridge Restoration Project on the subject line. In addition, include your name and mailing address.

Comments Requested

This notice of intent initiates the scoping proces which guides the development of the environmental impact statement. Comments in response to this solicitation for information should focus on (1) the proposal for vegetative restoration, (2) possible alternatives for addressing issues associated with the proposal, and (3) any possible impacts associated with the proposal based on an individual's civil rights (race, color, national origin, age, religion, gender, disability, political beliefs, sexual orientation, or marital or family status). We are especially interested in information that might identify a specific undesired result of implementing the proposed action. Comments received in response to this solicitation, including names and addresses of those who comment, will be considered part of the public record on this proposed action and will be available for public inspection. Comments submitted anonymously will be accepted and considered; however, those who submit anonymous comments will not have standing to appeal the subsequent decisions under 36 CFR parts 215 or 217.

Additionally, pursuant to 7 CFR 1.27(d), any persons may request the agency to withhold a submission from the public record by showing how the FOIA (Freedom of Information Act) permits such confidentiality. Persons requesting such confidentiality should be aware that under FOIA confidentiality may be granted in only very limited circumstances, such as to protect trade secrets.

The Forest Service will inform the requester of the agency's decision regarding the request for confidentiality and, should the request be denied, return the submission and notify the requester that the comments may be resubmitted with or without name and address within 90 days.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: August 26, 2002.
Kenneth G. Day,
Forest Supervisor.

[FR Doc. 02-22164 Filed 8-29-02; 8:45 am]

BILLING CODE 3410-11-P